ENVIRONMENTAL PROTECTION AGENCY

[EPA-HQ-OAR-2004-0077; FRL-10005-39-OMS]

Information Collection Request Submitted to OMB for Review and Approval; Comment Request; Significant New Alternatives Policy (SNAP) Program (Renewal)

AGENCY: Environmental Protection Agency (EPA).

ACTION: Notice.

SUMMARY: The Environmental Protection Agency (EPA) has submitted an information collection request (ICR), Significant New Alternatives Policy (SNAP) Program (EPA ICR Number 1596.10, OMB Control Number 2060-0226) to the Office of Management and Budget (OMB) for review and approval in accordance with the Paperwork Reduction Act . This is a proposed extension of the ICR, which is currently approved through May 31, 2020. Public comments were previously requested via the Federal Register on September 25, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 30, 2020.

ADDRESSES: Submit your comments, referencing Docket ID Number EPA-HQ-OAR-2004-0077, to (1) EPA online using www.regulations.gov (our preferred method), by email to a-and-r-docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Christina Thompson, Stratospheric Protection Division, Office of Atmospheric Programs, (Mail Code 6205T), Environmental Protection Agency, 1200 Pennsylvania Ave. NW, Washington, DC 20460; telephone number: (202) 564-0983; email address: thompson.christina@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Information collected under this rulemaking is necessary to implement the requirements of the Significant New Alternatives Policy (SNAP) program for evaluating and regulating substitutes for ozone-depleting substances (ODS) being phased out under the stratospheric ozone protection provisions of the Clean Air Act (CAA) and globally under the Montreal Protocol on Substances that Deplete the Ozone Layer. Under CAA Section 612, EPA is authorized to identify and restrict the use of substitutes for class I and class II ODS (listed in 40 CFR part 82, subpart A, appendices A and B) where EPA determines other alternatives are available or potentially available that reduce overall risk to human health and the environment. Any producer of a new substitute must submit a notice of intent to introduce a substitute into interstate commerce 90 days prior to such introduction. The producer must also provide EPA with information covering a wide range of health and environmental factors. The SNAP program, based on information collected from the manufacturers, formulators, and/or sellers of such substitutes, identifies acceptable substitutes. Responses to the collection of information are mandatory under Section 612 for anyone who sells or, in certain cases, uses substitutes for an ODS after April 18, 1994, the effective date of the final rule. Measures to protect confidentiality of information collected under the SNAP program are based on EPA's confidentiality regulations (40 CFR 2.201 et seq., or Subpart B). Submitters may designate all or portions of their forms or petitions as confidential. EPA requires the submitters to substantiate their claim of confidentiality. Under CAA Section 114(c), emissions information may not be claimed as confidential.

To develop the lists of acceptable and unacceptable substitutes, the Agency must assess and compare “overall risks to human health and the environment” posed by use of substitutes in the context of particular applications. EPA requires submission of information covering a wide range of health and environmental factors. These include intrinsic properties such as physical and chemical information, atmospheric effects including ozone depleting potential and global warming potential, toxicity, and flammability, and use-specific data such as substitute applications, process description, environmental release data, exposure data during use of a substitute, environmental fate and transport, and cost information of the substitute. Once a completed submission has been received, the SNAP program will commence its review. Any substitute which is a new chemical must also be submitted to the Agency under the Premanufacture Notice program under the Toxic Substances Control Act (TSCA). Alternatives that will be used as sterilants must be filed jointly with EPA's Office of Pesticide Programs and with SNAP.

Form Numbers: 1265-14.

Respondents/affected entities: Manufacturers, importers, formulators and processors of substitutes for ODS.

Respondent's obligation to respond: Mandatory (40 CFR 82.176).

Estimated number of respondents: 180 (per year).

Frequency of response: Annual.

Total estimated burden: 5,557 hours (per year). Burden is defined at 5 CFR 1320.03(b).

Total estimated cost: $471,714, which includes $22,938 annualized capital or O&M costs.

Changes in the Estimates: There is a decrease of 814 hours in the total estimated respondent burden compared with the ICR currently approved by OMB. The Agency anticipates the number of submissions to the SNAP program to remain the same as the previous ICR during the next 3 years. Many of the recent SNAP submissions, and those anticipated over the next three years, are for chemicals previously found acceptable for other SNAP applications or for blends of alternatives already found acceptable. For the expected submissions, the burden of developing supporting information for the majority of these submissions is expected to decrease because it is easier to find and review information for substitutes that have been reviewed previously. EPA estimates a reduction in the number of respondents responsible for recordkeeping for substitutes acceptable subject to use conditions and narrowed use limits. The increased availability of alternatives reduces the need for industry to use alternatives previously listed as acceptable subject to narrowed use limits.

Courtney Kerwin,
Director, Regulatory Support Division.

[FR Doc. 2020-06602 Filed 3-30-20; 8:45 am]

BILLING CODE 6560-50-P